DEPARTMENT OF THE INTERIOR

Office of Natural Resources Revenue

30 CFR Part 1206

Product Valuation

CFR Correction

In FR Doc. 2013-07512, appearing on page 19100, in the Federal Register of Friday, March 29, 2013, the subagency heading “Surface Mining Reclamation and Enforcement” is corrected to read “Office of Natural Resources Revenue”.

[FR Doc. 2013-07993 Filed 4-3-13; 8:45 am]

BILLING CODE 1505-01-D